DEPARTMENT OF TRANSPORTATION

National Highway Traffic Safety Administration

[Docket No. NHTSA-2001-8611]

Reports, Forms, and Recordkeeping Requirements

AGENCY: National Highway Traffic Safety Administration (NHTSA), DOT.

ACTION: Request for public comment on proposed collections of information.

SUMMARY: Before a Federal agency can collect certain information from the public, it must receive approval from the Office of Management and Budget (OMB). Under new procedures established by the Paperwork Reduction Act of 1995, before seeking OMB approval, Federal agencies must solicit public comment on proposed collections of information, including extensions and reinstatements of previously approved collections.

This document describes one collection of information for which NHTSA intends to seek OMB approval.

DATES: Comments must be received on or before March 23, 2001.

ADDRESSES: Comments must refer to the docket and notice numbers cited at the beginning of this notice and be submitted to Docket Management, Room PL-401, 400 Seventh St. SW., Washington, DC 20590. Please identify the proposed collection of information for which a comment is provided, by referencing its OMB Clearance Number. It is requested, but not required, that 1 original plus 2 copies of the comments be provided. The Docket Section is open on weekdays from 10:00 a.m. to 5:00 p.m.

FOR FURTHER INFORMATION CONTACT: Complete copies of the request for collection of information may be obtained at no charge from Dr. William J.J. Liu, NHTSA, 400 Seventh Street, SW., Room 5313, Washington, DC 20590.

Dr. Liu's telephone number is (202) 366-4923. Please identify the relevant collection of information by referring to its OMB Clearance Number.

SUPPLEMENTARY INFORMATION: Under the Paperwork Reduction Act of 1995, before an agency submits a proposed collection of information to OMB for approval, it must publish a document in the Federal Register providing a 60-day comment period and otherwise consult with members of the public and affected agencies concerning each proposed collection of information. The OMB has promulgated regulations describing what must be included in such a document. Under OMB's regulations (at 5 CFR 1320.8(d)), an agency must ask for public comment on the following:

(i) Whether the proposed collection of information is necessary for the proper performance of the functions of the agency, including whether the information will have practical utility;

(ii) The accuracy of the agency's estimate of the burden of the proposed collection of information, including the validity of the methodology and assumptions used;

(iii) How to enhance the quality, utility, and clarity of the information to be collected; and

(iv) How to minimize the burden of the collection of information on those who are to respond, including the use of appropriate automated, electronic, mechanical, or other technological collection techniques or other forms of information technology, e.g., permitting electronic submission of responses.

In compliance with these requirements, NHTSA asks public comment on the following proposed collection of information:

49 CFR 571.218, Motorcycle Helmets

Type of Request—Reinstatement of clearance.

OMB Clearance Number—2127-0518.

Form Number—This collection of information uses no standard forms.

Requested Expiration Date of Approval—Three years from date of approval.

Summary of the Collection of Information—NHTSA has issued Federal Motor Vehicles Safety Standard No. 218, Motorcycle Helmets, which establishes minimum performance requirements for helmets designed for use by motorcyclists and other motor vehicle users. Standard No. 218 requires that each helmet shall be labeled permanently and legibly (S5.6), in a manner such that the label(s) can be read easily without removing padding or any other permanent part.

Description of the Need for the Information and Proposed Use of the information—NHTSA requires labeling information to ensure that helmet owners have important safety information. The information currently provided on the helmet from the labels includes that manufacturer's name or identification, model, size, month and year of manufacture, shell and liner construction of the helmet. The owners will also receive important information on caring for the helmet from the labels. Finally, the DOT symbol signifies the manufacturer's certification that the helmet meets all the requirements in the standard. Labeling is necessary for NHTSA to identify the helmet, particularly, if the helmet failed the compliance tests.

Description of the Likely Respondents (Including Estimated Number, and Proposed Frequency of Response to the Collection of Information)—NHTSA estimates that 32 manufacturers of motorcycle helmets offer their products for sale in the United States. The frequency of response to the collection of information depends on the number of helmets that each manufacturer sells.

Estimate of the Total Annual Reporting and Recordkeeping Burden Resulting from the Collection of Information—Currently, 32 manufacturers produce, on the average, a total of approximately 1,600,000 motorcycle helmets a year. NHTSA estimates that the total annual information collection burden on all manufactures is 5,333 hours. NHTSA estimates that “annualized costs on all manufacturers is $640,000.”

Authority: 44 U.S.C. 3506(c); delegation of authority at 49 CFR 1.50.

Issued: January 17, 2001.
Stephen R. Kratzke,
Associate Administrator for Safety Performance Standards.

[FR Doc. 01-1852 Filed 1-19-01; 8:45 am]

BILLING CODE 4910-59-P